DEPARTMENT OF LABOR

Employment and Training Administration

[TA-W-39,209]

Mayfair Mills, Arcadia, SC; Notice of Termination of Investigation

Pursuant to section 221 of the Trade Act of 1974, an investigation was initiated on May 7, 2001 in response to a worker petition which was filed on May 7, 2001 on behalf of workers at Mayfair Mills, Arcadia, South Carolina.

An existing investigation is underway for this worker group (TA-W-38940). Eligibility will be determined by the results of that investigation. Consequently, further investigation in this case would serve no purpose, and this investigation has been terminated.

Signed in Washington, DC this 25th day of May, 2001.
Linda G. Poole,
Certifying Officer, Office of Trade Adjustment Assistance.

[FR Doc. 01-15040 Filed 6-13-01; 8:45 am]

BILLING CODE 4510-30-M